DEPARTMENT OF COMMERCE

International Trade Administration

Correction To Notice of Opportunity To Request Administrative Review

AGENCY: Enforcement and Compliance, International Trade Administration, Department of Commerce.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION: On November 1, 2018, the Department of Commerce (“Commerce”) published its opportunity to request administrative review of the antidumping duty orders for November 2018 anniversary cases. Commerce inadvertently stated parties may request an administrative review not later than the last day of October 2018. The last day to submit a request review request for November cases is the last day of November 2018. See Antidumping or Countervailing Duty Order, Finding, or Suspended Investigation; Opportunity to Request Administrative Review, 83 FR 54912 (November 1, 2018). This notice serves as a correction notice.

Dated: November 7, 2018.
James Maeder,
Associate Deputy Assistant Secretary for Antidumping and Countervailing Duty Operations performing the duties of Deputy Assistant Secretary for Antidumping and Countervailing Duty Operations.

[FR Doc. 2018-24792 Filed 11-13-18; 8:45 am]

BILLING CODE 3510-DS-P